DEPARTMENT OF ENERGY

Federal Energy Regulatory Commission

Combined Notice of Filings #1

June 17, 2005.

Take notice that the Commission received the following electric rate filings:

Docket Numbers: ER03-1079-005; ER02-47-005; ER95-216-025; ER03-725-005; ER02-309-005; ER02-1016-003; ER99-2322-005; ER01-905-005; ER00-1851-005.

Applicants: Aquila, Inc.; Aquila Long Term, Inc.; Aquila Merchant Services, Inc.; Aquila Piatt Count L.L.C.; MEP Clarksdale Power, LLC; MEP Flora Power, LLC; MEP Investments, LLC; MEP Pleasant Hill Operating, LLC; Pleasant Hill Marketing, LLC.

Description: Aquila, Inc on behalf of itself and the above-referenced Aquila affiliate power marketers, informs FERC that it will adopt the default cost-based rates and submits revised tariff sheets incorporating cost-based rates for the Aquila Networks-MPS and Aquila Networks-WPK control areas.

Filed Date: 06/13/2005.

Accession Number: 20050616-0011.

Comment Date: 5 p.m. eastern time on Tuesday, July 5, 2005.

Docket Numbers: ER05-1115-000.

Applicants: Mountain View Power Partners II, LLC.

Description: Mountain View Power Partners II, LLC submits a notice of cancellation of their market-based rate tariff.

Filed Date: 06/13/2005.

Accession Number: 20050616-0158.

Comment Date: 5 p.m. eastern time on Tuesday, July 5, 2005.

Docket Numbers: ER05-6-028; EL04-135-030; EL02-111-048; EL03-212-044.

Applicants: Midwest Independent Transmission System Operator, Inc.; Ameren Services Company.

Description: Midwest Independent Transmission System Operator, Inc., PJM Interconnection, L.L.C., the Midwest ISO Transmission Owners and Midwest Stand-Alone Transmission Company who have intervened in this proceedings, and the PJM and West Transmission Owners Agreement Administrative Committees submit corrected Sheet 1803 to the Midwest ISO Tariff to correct their 5/17/2005 filing.

Filed Date: 06/10/2005.

Accession Number: 20050614-0095.

Comment Date: 5 p.m. eastern time on Tuesday, July 1, 2005.

Docket Numbers: ER05-6-029; EL04-135-031; EL02-111-049; EL03-212-045

Applicants: Midwest Independent Transmission System Operator., Inc., PJM Interconnection, L.L.C. and Ameren Services Company.

Description: American Electric Power Service Corporation, Exelon Corporation, Dayton Power and Light Company and Dominion Virginia Power submit an errata to the Seams Elimination Charge/Cost Adjustment/Assignment compliance filing submitted on 4/20/05 and the SECA compliance filing submitted on 4/29/2005 to revised the PJM Open Access Transmission Tariff.

Filed Date: 06/13/2005.

Accession Number: 20050615-0012.

Comment Date: 5 p.m. eastern time on Tuesday, July 5, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3314 Filed 6-24-05; 8:45 am]

BILLING CODE 6717-01-P